DEPARTMENT OF HOMELAND SECURITY

Coast Guard

33 CFR Part 117

[CGD01-04-156]

Drawbridge Operation Regulations; Merrimack River, MA

AGENCY: Coast Guard, DHS.

ACTION: Notice of temporary deviation from regulations.

SUMMARY: The Commander, First Coast Guard District, has issued a temporary deviation from the drawbridge operation regulations for the Essex Merrimack Bridge, mile 5.8, across the Merrimack River, at Newburyport, Massachusetts. This deviation allows the bridge to remain in the closed position from January 22, 2005 through February 3, 2005. This temporary deviation is necessary to facilitate structural repairs at the bridge.

DATES: This deviation is effective from January 22, 2005 through February 3, 2005.

FOR FURTHER INFORMATION CONTACT: John McDonald, Project Officer, First Coast Guard District, at (617) 223-8364.

SUPPLEMENTARY INFORMATION: The Essex Merrimack Bridge, at mile 5.8, across the Merrimack River, has a vertical clearance of 15 feet at mean high water, and 22 feet at mean low water in the closed position. The existing regulations are listed at 33 CFR 117.605(c).

The bridge owner, Massachusetts Highway Department, requested a temporary deviation from the drawbridge operating regulations to facilitate necessary structural repairs to the balance wheels at the bridge.

This deviation to the operating regulations allows the bridge to remain in the closed position from January 22, 2005 through February 3, 2005.

This deviation from the operating regulations is authorized under 33 CFR 117.35 and will be performed with all due speed in order to return the bridge to normal operation as soon as possible.

Dated: January 7, 2005.
Gary Kassof,
Bridge Program Manager, First Coast Guard District.

[FR Doc. 05-791 Filed 1-13-05; 8:45 am]

BILLING CODE 4910-15-P